DEPARTMENT OF TRANSPORTATION

Federal Highway Administration

[FHWA Docket No. FHWA-2006-23612]

Surface Transportation Environment and Planning Cooperative Research Program (STEP)

AGENCY: Federal Highway Administration (FHWA), DOT.

ACTION: Notice.

SUMMARY: In an earlier notice and request for comments, the FHWA announced the creation of an FHWA Web site to provide information regarding the Surface Transportation Environment and Planning Cooperative Research Program (STEP) and solicited public input on the implementation strategy for this program. Based on the review and analysis of the comments received in response to the notice, the FHWA has finalized and posted the implementation strategy for the STEP on the STEP Web site at: http://www.fhwa.dot.gov/hep/step/index.htm. In addition, the FHWA has posted information on the STEP Web site soliciting comments on proposed STEP research activities.

DATES: The implementation strategy is effective August 4, 2006.

FOR FURTHER INFORMATION CONTACT: Felicia Young, Office of Interstate and Border Planning, (202) 366-1263, Felicia.young@fhwa.dot.gov; or Grace Reidy, Office of the Chief Counsel, (202) 366-6226; Federal Highway Administration, 400 Seventh Street, SW., Washington, DC 20590. Office hours are from 7:45 a.m. to 4:15 p.m., Monday through Friday, except Federal holidays.

SUPPLEMENTARY INFORMATION:

Electronic Access

An electronic copy of this notice may be downloaded from the Office of the Federal Register's home page at http://www.archives.gov and the Government Printing Office's Web site at http://www.access.gpo.gov.

Background

On March 1, 2006, the FHWA published a notice in the Federal Register (71 FR 10586) announcing the creation of an FHWA Web site to provide information regarding the Surface Transportation Environment and Planning Cooperative Research Program (STEP) and to solicit public input on the implementation strategy for this program.

Section 5207, Surface Transportation Environment and Planning Cooperative Research Program (STEP), of the Safe, Accountable, Flexible, Efficient Transportation Equity Act: A Legacy for Users (SAFETEA-LU) (Pub. L. 109-59; Aug. 10, 2005) established a new cooperative research program for environment and planning research in section 507 of Title 23, United States Code, Highways (23 U.S.C. 507). The general objective of the STEP is to improve understanding of the complex relationship between surface transportation, planning, and the environment. Among other areas, STEP will address environment and planning issues related to SAFETEA-LU implementation; Executive Order 13274: Environmental Stewardship and Transportation Infrastructure Project Reviews; the U.S. Department of Transportation's Research and Development Strategic Plan (section 508 of title 23 U.S.C.); and the environmental costs associated with growing surface transportation system congestion.

Discussion of Comments

The comment period for the notice closed on April 17, 2006. As of June 19, 2006, the FHWA received ten comments in the docket. The FHWA received comments from national associations, State Departments of Transportation (State DOTs), a consulting firm, and a private citizen. The FHWA has reviewed and analyzed these comments as well as a new Secretarial initiative related to congestion.¹ Summaries of the docket comments and the FHWA's analyses and determinations are discussed below. After considering and analyzing the comments, the FHWA has decided to revise and finalize the implementation strategy.

¹ Speaking before the National Retail Federation's annual conference on May 16, 2006, in Washington, DC, U.S. Transportation Secretary Norman Mineta unveiled a new plan to reduce congestion plaguing America's roads, rail and airports. The National Strategy to Reduce Congestion on America's Transportation Network includes a number of initiatives designed to reduce transportation congestion and it is available at the following URL: http://isddc.dot.gov/OLPFiles/OST/012988.pdf.

Most of the respondents supported the principles outlined in Section 5207 of SAFETEA-LU, which established the STEP. We received numerous comments regarding the STEP emphasis areas. Some respondents indicated that additional emphasis areas should be added to the 22 proposed STEP emphasis areas.

Another respondent recommended reducing the number of emphasis areas. Respondents identified the need to clarify the activities eligible for STEP funding under the proposed emphasis areas. Respondents commented that activities such as outreach, peer exchanges, symposia, public involvement and other activities associated with the deployment and sharing of information among stakeholders should be eligible for STEP funding.

Respondents also commented on the proposed stakeholder involvement in the STEP. Respondents indicated support for multiple stakeholder involvement throughout the STEP implementation process.

Comments on STEP program included a recommendation that at least 50 percent of STEP funding be dedicated to State DOT-led research and a recommendation that the STEP research focus on “projects that can add the best value across the nation rather than specific States or regions.” Two respondents recommended that the STEP governance include a structure similar to the Transportation Research Board's National Cooperative Highway Research Program.²

² The National Cooperative Highway Research Program (NCHRP) which was established in 1962 is a national research program that is administered by the Transportation Research Board. The NCHRP is sponsored by the member departments (i.e., individual state departments of transportation) of the American Association of State Highway and Transportation Officials in cooperation with the Federal Highway Administration.

Respondents also acknowledged the STEP's funding limitations and recommended that limited funding be spent effectively. Another respondent recommended that funding focus on high priority research that advances the goals of the Federal-aid highway program.

Changes to STEP

After reviewing the comments, the FHWA revised and augmented the STEP implementation strategy by: (1) Grouping the STEP into four major categories: Environment; Planning; Planning Tools for Planning and Environment; and Program Management and Outreach; (2) identifying 17 specific research emphasis areas and potential funding; (3) providing information regarding the goals and potential activities to be implemented within each of these emphasis areas; and (4) adding contact persons for each of these emphasis areas.

The FHWA also included Right of Way associations in the list of Tier II transportation and environmental stakeholders and included the Transportation Pooled Fund Program, University Transportation Centers, and State planning research under the section for coordination with other relevant research programs.

The FHWA did not revise the proposed structure for stakeholder/public involvement within the STEP. Because of the numerous and diverse STEP stakeholders, the FHWA believes that it is important that the limited STEP resources focus on priority environment and planning surface transportation research needs. Also, we expect to continue efforts to coordinate STEP implementation with other cooperative research resources like State Planning Research (SPR), the Future Strategic Highway Research Program (SHRPII), National Cooperative Highway Research Program (NCHRP) and others to further leverage STEP funding. The final implementation strategy is available on the STEP Web site at: http://www.fhwa.dot.gov/hep/step/index.htm.

Suggestions for Research Activities

At this time, the FHWA is requesting suggestions for the lines of research that should be pursued within each emphasis area. For example, stakeholders who have an interest in the “Tools to Support Environment and Planning” emphasis area might suggest that it is important to research ways to identify business models to enhance transportation decision-making using geospatial data. Specific research work statements for this suggestion, if pursued under the STEP, would be crafted by FHWA, after careful consideration of stakeholder views.

Thus, the FHWA does not seek specific, detailed research proposals and discourages researchers from submitting proposals of that nature. Rather, the FHWA staff who will serve as contacts for each Emphasis Area will work with stakeholders in the 17 research emphasis areas to identify and prioritize lines of research within each area and to subsequently develop specific work activities.

The FHWA is issuing this notice to: (1) Announce the posting of the final STEP Implementation strategy on the STEP Web site; and (2) to solicit comments on proposed research activities to be undertaken in the STEP via the STEP Web site. The URL for the STEP is http://www.fhwa.dot.gov/hep/step/index.htm. The FHWA will use this Web site as a major mechanism for informing the public regarding the status of the STEP.

We invite the public to visit this Web site to obtain additional information on the STEP, as well as information on the process for forwarding comments to the FHWA regarding the STEP implementation plan.

Authority: Section 5207 of Public Law 109-59.

Issued on: July 28, 2006.
J. Richard Capka,
Federal Highway Administrator.

[FR Doc. E6-12664 Filed 8-3-06; 8:45 am]

BILLING CODE 4910-22-P